DEPARTMENT OF ENERGY

Federal Energy Regulatory Commission

[Project No. 2614-042]

City of Hamilton, Ohio and American Municipal Power, Inc.; Notice of Intent To Prepare an Environmental Assessment

On February 21, 2024, City of Hamilton, Ohio and American Municipal Power, Inc. filed a relicense application for the 70.27 -megawatt Greenup Hydroelectric Project No. 2614 (project). The project is located at the U.S. Army Corps of Engineers' (Corps) Greenup Locks and Dam on the Ohio in Scioto County, Ohio and Greenup County, Kentucky. The project occupies 12.74 acres of federal land administered by the Corps.

In accordance with the Commission's regulations, on November 14, 2025, Commission staff issued a notice that the project was ready for environmental analysis (REA notice). Based on the information in the record, including comments filed on the REA Notice, staff does not anticipate that licensing the project would constitute a major federal action significantly affecting the quality of the human environment. Therefore, staff intends to prepare an environmental assessment (EA) on the application to relicense the project.¹

¹ For tracking purposes under the National Environmental Policy Act, the unique identification number for documents relating to this environmental review is EAXX-019-20-000-1769181282.

The EA will be issued and circulated for review by all interested parties. All comments filed on the EA will be analyzed by staff and considered in the Commission's final licensing decision.

For public inquiries and assistance with making filings such as interventions, comments, or requests for rehearing, contact the Office of Public Participation at (202) 502-6595 or OPP@ferc.gov.

The application will be processed according to the following schedule. Revisions to the schedule may be made as appropriate.

Milestone | Target date
Commission issues EA | November 23, 2026.

Any questions regarding this notice may be directed to Patrick Ely Patrick.Ely@ferc.gov, or 202-502-8570.

(Authority: 18 CFR 2.1)

Dated: February 18, 2026.
Debbie-Anne A. Reese,
Secretary.

[FR Doc. 2026-03574 Filed 2-20-26; 8:45 am]

BILLING CODE 6717-01-P